NATIONAL AERONAUTICS AND SPACE ADMINISTRATION

[Notice 13-104]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: September 19, 2013.

FOR FURTHER INFORMATION CONTACT: Mark W. Homer, Patent Counsel, NASA Management Office—JPL, 4800 Oak Grove Drive, Mail Stop 180-200, Pasadena, CA 91109; telephone (818) 354-7770.

NASA Case No.: NPO-48539-1: Neutral Mounting of Whispering Gallery Mode Resonators for Suppression of Acceleration-Induced Frequency Fluctuations;

NASA Case No.: NPO-47300-2: Textured Silicon Substrate Anode for LI Ion Battery.

Sumara M. Thompson-King,
Deputy General Counsel.

[FR Doc. 2013-22723 Filed 9-18-13; 8:45 am]

BILLING CODE 7510-13-P